FEDERAL COMMUNICATIONS COMMISSION

Notice of Public Information Collection(s) Being Reviewed by the Federal Communications Commission, Comments Requested

July 26, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 11, 2005. If you anticipate that you will be submitting comments, but find it difficult to do so within the period of time allowed by this notice, you should advise the contact listed below as soon as possible.

ADDRESSES: You may submit your Paperwork Reduction Act (PRA) comments by e-mail or U.S. postal mail. To submit your comments by e-mail send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an e-mail to PRA@fcc.gov or contact Judith B. Herman at 202-418-0214.

SUPPLEMENTARY INFORMATION: OMB Control No.: 3060-0704.

Title: Policy and Rules Concerning the Interstate, Interexchange Marketplace; Implementation of Section 254(g) of the Communications Act of 1934, as amended, CC Docket No. 96-6.

Form No.: N/A.

Type of Review: Revision of a currently approved collection.

Respondents: Business or other for-profit.

Number of Respondents: 519.

Estimated Time Per Response: .5-120 hours.

Frequency of Response: On occasion and annual reporting requirements, recordkeeping requirement and third party disclosure requirement.

Total Annual Burden: 84,337 hours.

Total Annual Cost: N/A.

Privacy Act Impact Assessment: N/A.

Needs and Uses: The Commission has eliminated the tariff cancellation requirement; therefore, we are decreasing the reported burden hours by 74,598 hours and $435,000 in total annual costs. The OMB is asked to approve this revised collection, when we submit it in 60 days, the removal of the burden hours for that requirement as part of this collection.

These collections of information are necessary to provide consumers ready access to information concerning the rates, terms, and conditions governing the provision of interstate, domestic and interexchange services offered by nondominant interexchange carriers (IXCs) in a detariffed and increasingly competitive environment. In the Second Order on Reconsideration issued in CC Docket No. 96-61, (March 1999), the Commission reinstated the public disclosure requirement and also required that nondominant interexchange carriers that have Internet Web sites to pass this information on-line in a timely and easily accessible manner. These carriers are also required to file annual certifications pursuant to section 254(g); maintain prices and service information; and are forborne from filing certain tariffs. The tariff cancellation requirement has been completed so the burden for that part of this collection has been removed.

OMB Control No.: 3060-0760.

Title: Access Charge Reform, CC Docket No. 96-262.

Form No.: N/A.

Type of Review: Revision of a currently approved collection.

Respondents: Business or other for-profit.

Number of Respondents: 17.

Estimated Time Per Response: 3-1,575 hours.

Frequency of Response: On occasion and annual reporting requirements.

Total Annual Burden: 55,462 hours.

Total Annual Cost: $12,000.

Privacy Act Impact Assessment: N/A.

Needs and Uses: This collection will be submitted to the OMB after the 60 day comment period because we have revised it to eliminate the cost study and third party disclosure requirements that are no longer needed. The Commission also revises the remaining burden hours and respondent estimates to provide more current and accurate data. Price cap local exchange carriers (LECs) must demonstrate that competitors have made irreversible, sunk investments in the facilities needed to provide services at issue.

In the Fifth Report and Order, CC Docket No. 96-262, (August 1999), the Commission modified the rules that govern the provision of interstate access services by those price cap LECs subject to price regulation to advance the pro-competitive, deregulatory national policies embodied in the Telecommunications Act of 1996. The pricing flexibility framework adopted in that Order was designed to grant greater flexibility to price cap LECs as competition develops, while ensuring that: (1) Price cap LECs do not use pricing flexibility to deter efficient entry or engage in exclusionary pricing behavior; and (2) price cap LECs do not increase rates to unreasonable levels for customers that lack competitive alternatives.

Federal Communications Commission.
Marlene H. Dortch,
Secretary.

[FR Doc. 05-15430 Filed 8-9-05; 8:45 am]

BILLING CODE 6712-01-P